DEPARTMENT OF TRANSPORTATION

Research and Innovative Technology Administration

Advisory Council on Transportation Statistics; Meeting

AGENCY: Research and Innovative Technology Administration (RITA), DOT.

ACTION: Notice.

This notice announces the cancellation of a meeting of the Advisory Council on Transportation Statistics (ACTS). The meeting was scheduled for Monday, March 4, 2013 from 8:30 a.m. to 4:00 p.m. E.S.T. in the DOT Conference Center at the U.S. Department of Transportation, 1200 New Jersey Ave. SE., Washington, DC. The Bureau of Transportation Statistics (BTS) will reschedule the meeting for a future date. Currently, BTS is developing a draft agenda. The following is a summary of the draft meeting agenda: (1) USDOT welcome and introduction of Council Members; (2) Overview of prior meeting; (3) Discussion of performance measures; (4) Update on BTS data programs and future plans (5) Council Members review and discussion of BTS programs and plans; (6) Public Comments and Closing Remarks. Participation is open to the public.

Questions about the agenda or possible agenda items may be emailed (Courtney.Freiberg@dot.gov) or submitted by U.S. Mail to: U.S. Department of Transportation, Research and Innovative Technology Administration, Bureau of Transportation Statistics, Attention: Courtney Freiberg, 1200 New Jersey Avenue SE., Room # E34-429, Washington, DC 20590, or faxed to (202) 366-3640.

Notice of this meeting is provided in accordance with the FACA and the General Services Administration regulations (41 CFR part 102-103) covering management of Federal advisory committees.

Issued in Washington, DC, on February 26, 2013.
Rolf Schmitt,
Deputy Director, Bureau of Transportation Statistics.

[FR Doc. 2013-04898 Filed 3-1-13; 8:45 am]

BILLING CODE 4910-HY-P